DEPARTMENT OF THE INTERIOR

Fish and Wildlife Service

Lacassine National Wildlife Refuge

AGENCY: Fish and Wildlife Service, Interior.

ACTION: Notice of availability of the Final Comprehensive Conservation Plan (CCP) and Finding of No Significant Impact (FONSI).

SUMMARY: We, the Fish and Wildlife Service, announce our decision and the availability of the Final CCP and FONSI for Lacassine National Wildlife Refuge in Cameron and Evangeline Parishes, Louisiana. The CCP was prepared pursuant to the National Wildlife Refuge System Improvement Act of 1997, and in accordance with the National Environmental Policy Act of 1969, and describes how the refuge will be managed for the next 15 years.

ADDRESSES: A copy of the CCP/FONSI may be obtained by writing to: Lacassine National Wildlife Refuge, 1428 Highway 27, Bell City, Louisiana 70630; Telephone: 337/598-2216. The CCP/FONSI may also be accessed and downloaded from the Service's Web site: http://southeast.fws.gov/planning/.

FOR FURTHER INFORMATION CONTACT: Judy McClendon, Refuge Planner, at the address in the ADDRESSES section or by electronic mail at the following address: judy_mcclendon@fws.gov.

SUPPLEMENTARY INFORMATION: Introduction: With this notice, we finalize the CCP process for Lacassine National Wildlife Refuge, begun as announced in the Federal Register (68 FR 2566; January 17, 2003). For more about the process, see that notice. We released the Draft CCP and Environmental Assessment (EA) to the public, announcing and requesting comments in a notice of availability in the Federal Register (71 FR 65832; November 9, 2006). Lacassine National Wildlife Refuge, established on December 30, 1937, is one of four refuges that makes up the Southwest Louisiana National Wildlife Refuge Complex. The 34,724-acre refuge is strategically located on the boundary of coastal marshes and agricultural habitats at the southern terminus of the Mississippi and Central Flyways, making the refuge critically important to migratory birds, especially wintering waterfowl.

With this notice, we announce our decision and the availability of the Final CCP/FONSI in accordance with the National Environmental Policy Act [40 CFR 1506.6(b)] requirements. We completed a thorough analysis of the environmental, social, and economic considerations, which we included in the Final CCP/FONSI. The FONSI documents the selection of Alternative B, the preferred alternative.

Alternatives and Preferred Alternative: The Draft CCP/EA identified and evaluated three alternatives for managing the refuge over the next 15 years. Alternative A, the no-action alternative, would have continued current management of the refuge. Alternative C would refocus management priority to actively investigating and extending the life/value of Lacassine Pool as a migratory bird sanctuary. We chose Alternative B (maximize refuge management capabilities in all programs) as our preferred alternative. This determination was made based on the best professional judgment of the planning team and the comments received on the Draft CCP/EA. We believe this management alternative will be the most effective one to contribute to the purposes for which the refuge was established and to the mission of the National Wildlife Refuge System. Implementation of the goals, objectives, and strategies in the CCP will allow us to manage the refuge for migratory birds, with special emphasis on waterfowl (especially northern pintails and mottled ducks); native flora and fauna; and rare and endangered species and habitat types. The refuge will provide opportunities for research by serving as a demonstration area and outdoor laboratory for those studying the ecology of southwest Louisiana wetlands. It will encourage appropriate and compatible wildlife-dependent recreation, such as hunting, fishing, wildlife observation, wildlife photography, and environmental education and interpretation.

Authority: This notice is published under the authority of the National Wildlife Refuge System Improvement Act of 1997, Public Law 105-57.

Dated: April 12, 2007.
Cynthia K. Dohner,
Acting Regional Director.

[FR Doc. E7-18982 Filed 9-25-07; 8:45 am]

BILLING CODE 4310-55-P